COMMITTEE FOR PURCHASE FROM PEOPLE WHO ARE BLIND OR SEVERELY DISABLED

Procurement List; Proposed Additions and Deletions

AGENCY: Committee for Purchase From People Who Are Blind or Severely Disabled.

ACTION: Proposed additions to and deletions from Procurement List.

SUMMARY: The Committee is proposing to add to the Procurement List services to be furnished by nonprofit agencies employing persons who are blind or have other severe disabilities, and to delete products and services previously furnished by such agencies.

Comments Must Be Received on or Before: April 27, 2009.

ADDRESSES: Committee for Purchase From People Who Are Blind or Severely Disabled, Jefferson Plaza 2, Suite 10800, 1421 Jefferson Davis Highway, Arlington, Virginia 22202-3259.

For Further Information or to Submit Comments Contact: Barry S. Lineback, Telephone: (703) 603-7740, Fax: (703) 603-0655, or e-mail CMTEFedReg@AbilityOne.gov.

SUPPLEMENTARY INFORMATION: This notice is published pursuant to 41 U.S.C 47(a)(2) and 41 CFR 51-2.3. Its purpose is to provide interested persons an opportunity to submit comments on the proposed actions.

Additions

If the Committee approves the proposed additions, the entities of the Federal Government identified in this notice for each product or service will be required to procure the services listed below from nonprofit agencies employing persons who are blind or have other severe disabilities.

Regulatory Flexibility Act Certification

I certify that the following action will not have a significant impact on a substantial number of small entities. The major factors considered for this certification were:

1. If approved, the action will not result in any additional reporting, recordkeeping or other compliance requirements for small entities other than the small organizations that will furnish the services to the Government.

2. If approved, the action will result in authorizing small entities to furnish the services to the Government.

3. There are no known regulatory alternatives which would accomplish the objectives of the Javits-Wagner-O'Day Act (41 U.S.C. 46-48c) in connection with the services proposed for addition to the Procurement List.

Comments on this certification are invited. Commenters should identify the statement(s) underlying the certification on which they are providing additional information.

End of Certification

The following services are proposed for addition to Procurement List for production by the nonprofit agencies listed:

Services

Service Type/Location: Administrative Services, HUD Birmingham Field Office, 950 22nd St North, Birmingham, AL.

NPA: Tommy Nobis Enterprises, Inc., Marietta, GA.

Contracting Activity: Dept. of Housing and Urban Development, Chicago, IL.

Service Type/Location: Switchboard Operation, Tuskegee VA Medical Center, 2400 Hospital Road, Tuskegee, AL.

NPA: Bobby Dodd Institute, Inc., Atlanta, GA.

Contracting Activity: Department of Veterans Affairs, Augusta, GA.

Service Type/Location: Custodial Services, Allegheny National Forest, 4 Farm Colony Drive, Warren, PA.

NPA: Bollinger Enterprises, North Warren, PA.

Contracting Activity: Dept. of Agriculture/Forest Service, Warren, PA.

Deletions

Regulatory Flexibility Act Certification

I certify that the following action will not have a significant impact on a substantial number of small entities. The major factors considered for this certification were:

1. If approved, the action will not result in additional reporting, recordkeeping or other compliance requirements for small entities.

2. If approved, the action may result in authorizing small entities to furnish the products and services to the Government.

3. There are no known regulatory alternatives which would accomplish the objectives of the Javits-Wagner-O'Day Act (41 U.S.C. 46-48c) in connection with the products and services proposed for deletion from the Procurement List.

End of Certification

The following products and services are proposed for deletion from the Procurement List:

Products

PCU, Level 1 Boxer

NSN: 8420-01-542-5494—Size S.

NSN: 8420-01-542-5495—Size M.

NSN: 8420-01-542-5496—Size L.

NSN: 8420-01-542-5497—Size LL.

NSN: 8420-01-542-5499—Size XL.

NSN: 8420-01-542-5500—Size XLL.

NSN: 8420-01-542-5491—Size XS.

NSN: 8420-01-543-7068—Size ML.

NSN: 8420-01-542-5478—Size XXL.

NSN: 8420-01-542-5490—Size XXLL.

NSN: 8420-01-542-5485—Size XXXL.

NSN: 8420-01-542-5488—Size XXXLL.

NPA: Southeastern Kentucky Rehabilitation Industries, Inc., Corbin, KY.

Contracting Activity: XR W40M Natl Region Contract Ofc, Washington, DC.

Services

Service Type/Location: Administrative Services, GSA, Las Vegas—Nevada Field Office: 600 Las Vegas Boulevard, 600 Las Vegas Boulevard South, Las Vegas, NV.

NPA: Opportunity Village Association for Retarded Citizens, Las Vegas, NV.

Contracting Activity: Bureau of Immigration and Customs Enforcement, FPS West, Consolidated Contract Group, Denver, CO.

Service Type/Location: Custodial Services, Department of Homeland Security: 6416 Sossamon Road (Williams Gateway Airport), 6416 Sossamon, Mesa, AZ.

NPA: Goodwill Community Services, Inc., Phoenix, AZ.

Contracting Activity: Bureau of Customs and Border Protection, Office of Procurement, Washington, DC.

Service Type/Location: Custodial Services, VA Primary Care Center, North Pinellas Park, St Petersburg, Marion City, Naples & Sarasota, Multiple Locations, FL.

NPA: Abilities, Inc. of Florida, Clearwater, FL.

Contracting Activity: Dept. of Veterans Affairs, St. Petersburg, FL.

Barry S. Lineback,
Director, Business Operations.

[FR Doc. E9-6904 Filed 3-26-09; 8:45 am]

BILLING CODE 6353-01-P